DEPARTMENT OF ENERGY

Southeastern Power Administration

Jim Woodruff Project

AGENCY: Southeastern Power Administration, DOE.

ACTION: Notice of proposed rate adjustment.

SUMMARY: Southeastern proposes new rate schedules JW-1-I and JW-2-F to replace Wholesale Power Rate Schedules JW-1-H and JW-2-E for a five-year period from September 20, 2009 to September 19, 2014. Rate schedule JW-1-I is applicable to Southeastern power sold to existing preference customers in the Florida Power Corporation service (Progress Energy) area. Rate schedule JW-2-F is applicable to Florida Power Corporation.

DATES: Written comments are due on or before June 9, 2009. A public information and public comment forum will be held at Courtyard by Marriott Tallahassee Capital, in Tallahassee, Florida, at 10 a.m. on April 23, 2009. Persons desiring to speak at the forum are requested to notify Southeastern at least seven (7) days before the forum is scheduled so that a list of forum participants can be prepared. Others present may speak if time permits. Persons desiring to attend the forum should notify Southeastern at least seven (7) days before the forum is scheduled. If Southeastern has not been notified by close of business on April 16, 2009, that at least one person intends to be present at the forum, the forum will be canceled with no further notice.

ADDRESSES: Written comments should be submitted to: Kenneth E. Legg, Administrator, Southeastern Power Administration, Department of Energy, 1166 Athens Tech Road, Elberton, Georgia 30635-6711. The public comment Forum will meet at the Courtyard by Marriott Tallahassee Capital, 1018 Apalachee Parkway, Tallahassee, Florida, 32301, Phone (850) 222-8822.

FOR FURTHER INFORMATION CONTACT: Leon Jourolmon, Assistant Administrator, Finance and Marketing Division, Southeastern Power Administration, Department of Energy, 1166 Athens Tech Road, Elberton, Georgia 30635-6711, (706) 213-3800.

SUPPLEMENTARY INFORMATION: Existing rate schedules are supported by a July 2004 Repayment Study and other supporting data contained in FERC Docket No. EF04-3031-000. A repayment study prepared in February 2009 shows that the existing rates are not adequate to meet repayment criteria. A revised repayment study with a revenue increase of $5,575,000, or 70.6 percent, for Fiscal Year 2009, through the end of the study, demonstrates that all costs are paid within their repayment life. The increase is primarily due to drought and higher energy prices for purchase power and higher Corps of Engineers operation and maintenance expense. Southeastern is proposing to raise rates to recover this additional revenue.

In the proposed rate schedule JW-1-I, which is available to preference customers, the capacity charge has been raised from $6.95 per kilowatt per month to $12.62 per kilowatt per month. The energy charge has been increased from 19.95 mills per kilowatt-hour to 36.21 mills per kilowatt-hour. Rate schedule JW-2-F, available to Florida Power Corporation, raises the rate from 90 percent of the Company's fuel cost to 100 percent of the Company's fuel cost.

The proposed rate schedules are available for examination at 1166 Athens Tech Road, Elberton, Georgia, 30635-6711, as is the February 2009 repayment study.

Dated: March 4, 2009.
Kenneth E. Legg,
Administrator.

[FR Doc. E9-5168 Filed 3-10-09; 8:45 am]

BILLING CODE 6450-01-P